DEPARTMENT OF ENERGY

Federal Energy Regulatory Commission

[Project No. 7887-019]

Ashuelot River Hydro, Inc.; Notice of Application Ready for Environmental Analysis and Soliciting Comments, Recommendations, Terms and Conditions, and Prescriptions

Take notice that the following hydroelectric application has been filed with the Commission and is available for public inspection.

a. Type of Application: Subsequent Minor License.

b. Project No.: 7887-019.

c. Date filed: June 28, 2024.

d. Applicant: Ashuelot River Hydro, Inc.

e. Name of Project: Minnewawa Hydroelectric Project.

f. Location: On Minnewawa Brook, in the Town of Marlborough, Cheshire County, New Hampshire.

g. Filed Pursuant to: Federal Power Act 16 U.S.C. 791(a)-825(r).

h. Applicant Contact: Justin Ahmann, Owner, Ashuelot River Hydro, Inc., 75 Somers Road, P.O. Box 474, Somers, Montana 59932; Phone at (406) 393-2127 or email Justin@apec-mt.com; or Daniel Parker, Consultant, 45north Renewable Energy, LLC, 330 May Road, Potsdam, New York 13676; Phone at (315) 261-2158 or email 45northRenewables@mail.com.

i. FERC Contact: Justin R. Robbins at (202) 502-8308, or justin.robbins@ferc.gov.

j. Deadline for filing comments, recommendations, terms and conditions, and prescriptions: on or before 5:00 p.m. Eastern Time on April 14, 2026; reply comments are due on or before 5:00 p.m. Eastern Time on May 29, 2026.

The Commission strongly encourages electronic filing. Please file comments, recommendations, terms and conditions, and prescriptions using the Commission's eFiling system at https://ferconline.ferc.gov/FERCOnline.aspx. Commenters can submit brief comments up to 10,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Minnewawa Hydroelectric Project(P-7887-019).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is ready for environmental analysis at this time.

l. Project Description: the existing project includes a 245-foot-long, 63-foot-high reinforced mass concrete dam and spillway fitted with flashboards and an intake structure. The crest elevation is 1070.2 feet National Geodetic Vertical Datum 1929 (NGVD 29) above the flashboards. The dam creates a 10-acre impoundment with a storage capacity of 155 acre-feet. From the impoundment, water flows into the intake structure and through a 5,717-foot-long partially buried steel penstock into a powerhouse containing a single 1,000-kilowatt (kW) Francis turbine-generator unit. Water is then discharged back into Minnewawa Brook through a 790-foot-long tailrace. The project creates an approximately 2,900-foot bypassed reach of Minnewawa Brook, which extends from Minnewawa dam to the confluence of the tailrace with Minnewawa Brook. A 100-foot-long transmission line transmits power from the powerhouse to the grid. There are no project recreation facilities.

Ashuelot Hydro proposes to: (1) continue operating the project in a run-of-river mode, such that flow in Minnewawa Brook, as measured immediately downstream from the project tailrace, approximates the instantaneous sum of the inflow to the project impoundment, and releasing a minimum flow of 4 cubic feet per second into the bypassed reach, as measured immediately downstream from the Minnewawa dam, or inflow to the impoundment, whichever is less; (2) install a new 75-kW fixed geometry turbine-generator unit in the existing powerhouse; and (3) install a tap and isolation valve to the existing penstock.

m. A copy of the application is available for review via the internet through the Commission's Home Page (http://www.ferc.gov), using the “eLibrary” link. Enter the docket number, excluding the last three digits in the docket number field to access the document (P-7887). For assistance, contact FERC at FERCOnlineSupport@ferc.gov or call toll free, (886) 208-3676 or (202) 502-8659 (TTY).

All filings must (1) bear in all capital letters the title “COMMENTS,” “REPLY COMMENTS,” “RECOMMENDATIONS,” “TERMS AND CONDITIONS,” or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

For public inquiries and assistance with making filings such as interventions, comments, or requests for rehearing, contact the Office of Public Participation at (202) 502-6595 or OPP@ferc.gov.

You may also register online at https://ferconline.ferc.gov/FERCOnline.aspx to be notified via email of new filings and issuances related to this or other pending projects. For assistance, contact FERC Online Support.

n. The applicant must file the following on or before 5:00 p.m. Eastern Time on April 14, 2026: (1) copy of the water quality certification; (2) a copy of the request for certification, including proof of the date on which the certifying agency received the request; or (3) evidence of a waiver of water quality certification.

o. Procedural schedule: The application will be processed according to the following schedule. Revisions to the schedule will be made as appropriate.

Milestone | Target date
Filing of Comments, Recommendations, Terms, Conditions, and Prescriptions | April 2026.
Filing of Reply Comments | May 2026.

p. Final amendments to the application must be filed with the Commission on or before 5:00 p.m. Eastern Time on March 16, 2026.

(Authority: 18 CFR 2.1.)

Dated: February 13, 2026.
Debbie-Anne A. Reese,
Secretary.

[FR Doc. 2026-03342 Filed 2-19-26; 8:45 am]

BILLING CODE 6717-01-P